DEPARTMENT OF VETERANS AFFAIRS

[OMB Control No. 2900-0156]

Agency Information Collection Activity Under OMB Review: Notice of Change in Student Status

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0156.”

FOR FURTHER INFORMATION CONTACT:

VA PRA information: Dorothy Glasgow, 202-461-1084, VAPRA@va.gov.

SUPPLEMENTARY INFORMATION:

Title: Notice of Change in Student Status, VA Form 22-1999b.

OMB Control Number: 2900-0156, https://www.reginfo.gov/public/do/PRASearch.

Type of Review: Revision of a currently approved collection.

Abstract: The VA uses the information collected to determine whether the beneficiaries' educational benefits should be increased, decreased, or terminated, and the effective date of the change, if applicable. Without this information, VA might underpay or overpay benefits. Information technology is being used to reduce the burden. The VA allows schools to submit the information using the new electronic submission portal, Enrollment Manager. This system replaced the previously used VA Online Certification of Enrollment (VA-ONCE). Ninety-five percent of the enrollment certifications received are submitted electronically.

An agency may not conduct or sponsor, and a person is not required to respond to a collection of information unless it displays a currently valid OMB control number. The Federal Register Notice with a 60-day comment period soliciting comments on this collection of information was published at 89 FR 99335, December 10, 2024.

Affected Public: Individuals and Households.

Estimated Annual Burden: 132,028 hours.

Estimated Average Burden per Respondent: 10 minutes.

Frequency of Response: On Occasion.

Estimated Number of Respondents: 792,173.

Authority: 44 U.S.C. 3501 et seq.

Dorothy Glasgow,
Acting, VA PRA Clearance Officer, Office of Enterprise and Integration, Data Governance Analytics, Department of Veterans Affairs.

[FR Doc. 2025-02812 Filed 2-19-25; 8:45 am]

BILLING CODE 8320-01-P